INTERNATIONAL TRADE COMMISSION

[ Inv. No. 337-TA-688]

In the Matter of Certain Hybrid Electric Vehicles and Components Thereof; Notice of Commission Determination Not To Review an Initial Determination Terminating the Investigation on the Basis of a Settlement Agreement

AGENCY: U.S. International Trade Commission.

ACTION: Notice.

SUMMARY: Notice is hereby given that the U.S. International Trade Commission has determined not to review the final initial determination (“ID”) (Order No. 16) issued by the presiding administrative law judge (“ALJ”) on July 22, 2010, which granted a joint motion to terminate the above-captioned investigation based upon a settlement agreement.

FOR FURTHER INFORMATION CONTACT: Sidney A. Rosenzweig, Office of the General Counsel, U.S. International Trade Commission, 500 E Street, SW., Washington, DC 20436, telephone (202) 708-2532. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 5, 2009, based on a complaint filed by Paice LLC (“Paice”) of Bonita Springs, Florida. 74 FR. 52258-59 (Oct. 9, 2009). The complaint named as respondents Toyota Motor Corporation of Japan and two U.S. subsidiaries (collectively “Toyota”). The complaint alleges infringement by certain Toyota hybrid vehicles of claims of U.S. Patent No. 5,343,970.

On July 19, 2010, Paice and Toyota moved to terminate the investigation based upon a settlement agreement. That same day, the Commission investigative attorney filed a response in support of the motion. On July 22, 2010, the ALJ issued an ID (Order No. 16) granting the motion. No petitions for review of the ID were filed.

The Commission has determined not to review the subject ID.

The authority for the Commission's determination is contained in section 337 of the Tariff Act of 1930, as amended (19 U.S.C. 1337), and in sections 210.21(b) and 210.42-.45 of the Commission's Rules of Practice and Procedure (19 CFR 210.21(b), 210.42-.45).

By order of the Commission.
Issued: August 10, 2010.
Marilyn R. Abbott,
Secretary to the Commission.

[FR Doc. 2010-20118 Filed 8-13-10; 8:45 am]

BILLING CODE 7020-02-P